DEPARTMENT OF THE INTERIOR

Bureau of Ocean Energy Management

[Docket No. BOEM-2014-0017]

Outer Continental Shelf (OCS), Alaska OCS Region, Beaufort Sea Planning Area, Proposed Oil and Gas Lease Sale 242 (Sale 242) MMAA104000

AGENCY: Bureau of Ocean Energy Management (BOEM), Interior.

ACTION: Call for Information and Nominations.

SUMMARY: This Call for Information and Nominations (hereinafter referred to as “Call”) is the initial step in the prelease process for Sale 242 in the Beaufort Sea Planning Area. The lease sale presently is scheduled to be held in 2017, as included in the Outer Continental Shelf (OCS) Oil and Gas Leasing Program for 2012-2017 (hereinafter referred to as “Five Year Program”). The purpose of this Call is to obtain nominations for leasing in the Beaufort Sea Planning Area and information on oil and gas leasing, exploration, and development that might result from an OCS oil and gas lease sale for the Beaufort Sea Planning Area. The area addressed in this Call (hereinafter referred to as “Program Area”) is located offshore the State of Alaska in the Beaufort Sea Planning Area (see map included with this Call). As identified in the Five Year Program, the Program Area is a sub-area of the larger Beaufort Sea Planning Area.

DATES: All responses to the Call must be received no later than September 12, 2014.

FOR FURTHER INFORMATION CONTACT: Michael S. Rolland, Chief, Leasing Section, BOEM, Alaska OCS Region, 3801 Centerpoint Drive, Suite 500, Anchorage, Alaska 99503-5823, or at (907) 334-5200.

SUPPLEMENTARY INFORMATION: BOEM will not consider areawide leasing for this sale; this sale (if held) will be conducted under the targeted leasing model for Alaska, as described in the Five Year Program. This Call differs from the Call for Information and Nominations for the Chukchi Sea Lease Sale 237, issued on September 27, 2013, and found in the Federal Register at 78 FR 59715. Industry should note that for this Call, if nominations are within the BOEM-defined areas of high petroleum potential, the nominating party is not required to provide supporting geological, geophysical, or economic information. However, if industry nominates an area outside of the BOEM defined high petroleum potential area, then the company making such a nomination may be asked by BOEM to support its nomination with geological, geophysical, or economic information.

In addition to seeking nominations, this Call requests information concerning:

• Geological conditions, including bottom hazards;

• archaeological sites on the seabed or nearshore;

• multiple uses of the Program Area, including navigation, recreation, and fisheries; and

• other socioeconomic, biological, and environmental information, including but not limited to, information regarding oil and gas resource potential, sensitive habitats, subsistence use, unique conditions, and important other uses of the Program Area.

After BOEM identifies the area for the proposed lease sale based upon the information and nominations received from this Call, BOEM will initiate an environmental analysis process in accordance with the National Environmental Policy Act (NEPA) through publication of a Notice of Intent to Prepare an Environmental Impact Statement (NOI/EIS). BOEM will use the information obtained through this Call and the Area Identification in developing the proposed action and possible alternatives to be identified and scoped in the NOI/EIS.

Call for Information and Nominations

1. Authority

This Call is published pursuant to the Outer Continental Shelf Lands Act (OCSLA), as amended (43 U.S.C. 1331-1356), and the regulations issued thereunder (30 CFR part 556).

2. Purpose of This Call

The purpose of this Call is to gather information to determine the Area Identification for Sale 242 under 30 CFR 556.26. BOEM seeks information and nominations on oil and gas leasing, exploration, and development and production in the Program Area from all interested parties. This early planning and consultation step is important to ensure that all interests and concerns are communicated to the U.S. Department of the Interior for consideration in future decisions in the leasing process, pursuant to OCSLA and the regulations at 30 CFR part 556.

3. Description of Program Area

The Program Area is located offshore the State of Alaska in the Beaufort Sea Planning Area. The Beaufort Sea Planning Area extends from the 3-nautical mile (4.8 kilometers [km]) limit of State of Alaska waters northward to latitude 75° N. on the west (west of longitude 148° W.) or to latitude 74° N on the east (east of longitude 148° W.) (see map included with this notice). The planning area extends from longitude 156° W. (roughly north of the village of Barrow) on the west to the Canadian maritime boundary. As depicted on the page-size map accompanying this Call, the Program Area, which is a subset of the planning area, extends offshore from about 3 nautical miles to approximately 280 nautical miles, in water depths from approximately 25 feet to more than 14,000 feet. This area consists of approximately 11,800 whole and partial blocks (about 64.8 million acres, or 26.2 million hectares). A large-scale Call map showing the boundaries and blocks of the Beaufort Sea Program Area is available without charge on the BOEM Web site at http://www.boem.gov/ak242. Copies of Official Protraction Diagrams also are available without charge on the Web site at http://www.boem.gov/Oil-and-Gas-Energy-Program/Mapping-and-Data/Alaska.aspx.

4. Nominations on This Call

Written nominations must be received no later than September 12, 2014. Submittals should indicate “Nominations for Beaufort Sea Lease Sale 242.”

Persons or corporations, or other entities in the oil and gas industry (hereinafter referred to as “industry”) submitting nominations, should describe explicitly their interest by ranking the areas nominated according to priority using five interest classifications: (1) Critical interest, (2) high interest, (3) general interest, (4) low interest, or (5) no interest. The area(s) nominated must be described accurately and shown on the large-scale Call map available at http://www.boem.gov/ak242. Industry nominations within the BOEM-defined areas of high petroleum potential, as identified on Map D in the document Final Outer Continental Shelf Oil and Gas Leasing Program for 2012-2017 (available at http://www.boem.gov/ak242), need not justify the nomination further. However, if the nomination is outside of the BOEM-defined area of high resource potential, the nominating party should be as specific as possible in prioritizing blocks and should be prepared, if called upon, to supply geological, geophysical, or economic information on why such blocks should be included in Sale 242. Industry nominators are requested to provide the telephone number and name of the individual to contact regarding the nominations. A representative from BOEM's Alaska OCS Regional office may contact this individual to set up a mutually agreeable meeting date and time to review more fully the nomination.

To avoid inadvertent release of proprietary information, industry should mark all documents and every page containing such information with “Confidential—Contains Proprietary Information.” To the extent a document contains a mix of proprietary and nonproprietary information, industry should mark clearly which portion of the document is proprietary and which is not. The OCSLA states that the “Secretary shall maintain the confidentiality of all privileged or proprietary data or information for such period of time as is provided for in this subchapter, established by regulation, or agreed to by the parties” (43 U.S.C. 1344(g)). BOEM considers written nominations of specific blocks to be proprietary, and it will not release those nominations to the public.

5. Exclusion Areas and Other Comments

BOEM is seeking recommendations on whether to exclude specific blocks or areas from oil and gas leasing (hereinafter referred to as “proposed exclusion areas”), or to lease them under special conditions due to conflicting values and environmental concerns. Persons, Federal agencies, state and local governments, tribes, and other interested parties (hereinafter referred to as “commenters”) should indicate proposed exclusion areas or areas of special concern on the large-scale Call map available at http://www.boem.gov/ak242. Commenters also may use the interactive map tool for the Arctic at http://www.boem.gov/Oil-and-Gas-Energy-Program/Leasing/Five-Year-Program/Lease-Sale-Schedule/Interactive-Maps.aspx. Commenters are encouraged to be as specific as possible in explaining why the area should be excluded or leased under special conditions, provide supporting information, and be prepared to discuss the proposed exclusion areas with BOEM. Commenters are requested to provide the telephone number and name of the individual to contact regarding comments. A representative from BOEM's Alaska OCS Regional office may contact this individual to set up a mutually agreeable meeting date and time to review more fully the proposed exclusion areas.

BOEM also is seeking comments and information from all interested persons regarding:

• Areas that should receive more detailed consideration and analysis;

• geological conditions, including bottom hazards;

• archaeological sites on the seabed or nearshore;

• other uses of the Program Area, including navigation and subsistence; and

• other socioeconomic, biological, or environmental information.

BOEM received comments on the Program Area as part of the Five Year Program approval process. Those comments included information on the importance of the Boulder Patch, Camden Bay, and the Nuiqsut bowhead whale hunt area near Cross Island. BOEM will consider information submitted previously on the Five Year Program (see section 7. below), but BOEM encourages persons who submitted comments on the Five Year Program to refine their earlier comments and provide greater detail or new information, where appropriate, concerning the importance of these areas or associated activities.

6. Submissions of Nominations, Requests for Exclusion Areas, and Other Comments

Industry representatives who are nominating area(s) for inclusion in the sale should send their nominations to: Chief, Leasing Section, BOEM, Alaska OCS Region, 3801 Centerpoint Drive, Suite 500, Anchorage, Alaska 99503-5823.

Proposals for exclusion areas and areas of special concern, including general information from persons, Federal agencies, state and local governments, tribes, and other interested parties, will be accepted only through http://www.regulations.gov, using docket designation BOEM-2014-0017. All comments received via this Web site, including names and addresses of the commenter, are public and will be posted for public review. BOEM will not consider anonymous comments. BOEM will make available all nonproprietary submissions in their entirety on http://www.regulations.gov. However, BOEM will remove inappropriate content (i.e., contains vulgar language, personal attacks of any kind, threats, accusations, obscenity, or offensive terms that target specific ethnic or racial groups), or comments that are off-topic (i.e., not pertinent to the information requested in the Call). Groups bundling comments from multiple individuals are encouraged to screen comments for inappropriate content.

7. Tracking Table and Interactive Map

In the Five Year Program, BOEM established a mitigation/program tracking table (hereinafter referred to as “Table”), which is designed to track the history and treatment of suggestions for inclusion or exclusion of acreage, temporal deferrals, and/or mitigation from the Five Year Program stage through the lease sale stage to the plan stage. The Table will allow commenters to see how and where their concerns are considered. The Table also will ensure that a reasonable concern not suitable for consideration during one stage will be considered at an appropriate subsequent stage. The Table may be viewed at http://www.boem.gov/Oil-and-Gas-Energy-Program/Leasing/Five-Year-Program/Lease-Sale-Schedule/Tracking-Table.aspx. Appropriate suggestions collected during the comment period on this Call will be added to the Table and tracked throughout the process.

Additionally, BOEM has created an interactive map through the MarineCadastre.gov Web site for Alaska at http://www.boem.gov/Oil-and-Gas-Energy-Program/Leasing/Five-Year-Program/Lease-Sale-Schedule/Interactive-Maps.aspx. MarineCadastre.gov is an integrated marine information system that provides a more comprehensive look at geospatial data and ongoing activities and studies occurring in the area being considered. If persons believe that a data layer should be added for consideration, they should provide this information by following the commenting instructions above. Questions about the interactive map may be addressed to: Chief, Leasing Section, BOEM, Alaska OCS Region, 3801 Centerpoint Drive, Suite 500, Anchorage, Alaska 99503-5823, or by calling (907) 334-5200.

8. Use of Information From This Call

BOEM is undertaking a strategy of targeted leasing, whereby the BOEM Director will use the information provided in response to this Call to make an Area Identification decision under 30 CFR 556.26. BOEM will consider nominations, proposed exclusion areas, and areas proposed to receive special consideration and analysis, in light of resource estimates, information regarding exploratory drilling, environmental reviews, and other relevant information. Using this information, BOEM plans to target leasing by proactively determining which specific portions of the Program Area offer greater resource potential, while minimizing potential conflicts with environmental and subsistence considerations.

Information submitted in response to this Call also will be used to:

• Develop potential lease terms and conditions;

• identify potential use conflicts; and

• assist in the NEPA scoping process.

9. Existing Information

An extensive Environmental Studies Program, including environmental, social, and economic studies in the Beaufort Sea Planning Area, has been underway in the BOEM Alaska OCS Region since 1976. The emphasis has been on environmental characterization of biologically sensitive habitats, marine mammals, physical oceanography, ocean-circulation modeling, subsistence uses, and ecological and sociocultural effects of oil and gas activities. Information on the BOEM Environmental Studies Program, completed studies, and a program status report for continuing studies in this area is available on the BOEM Web site at http://www.boem.gov/akstudies, or it may be obtained from the Chief, Environmental Sciences Management Section, Alaska OCS Region, by telephone request at (907) 334-5200.

NEPA analyses were prepared for previous OCS lease sales held in the Beaufort Sea Planning Area. Previous NEPA analyses for Beaufort Sea lease sales and other actions are available at http://www.boem.gov/About-BOEM/BOEM-Regions/Alaska-Region/Environment/Environmental-Analysis/Environmental-Impact-Statements-and—Major-Environmental-Assessments.aspx. Currently, 147 active OCS oil and gas leases exist in the Beaufort Sea Planning Area, encompassing an area of approximately 760,000 acres (308,000 hectares). Information on the leases and other lease-related activities is available at http://www.boem.gov/About-BOEM/BOEM-Regions/Alaska-Region/Leasing-and-Plans/Index.aspx.

BILLING CODE 4310-MR-P

Walter D. Cruickshank,
Acting Director, Bureau of Ocean Energy Management.

[FR Doc. 2014-17842 Filed 7-28-14; 8:45 am]

BILLING CODE 4310-MR-C